DEPARTMENT OF TRANSPORTATION

Federal Aviation Administration

14 CFR Part 39

[Docket No. FAA-2013-0424; Directorate Identifier 2013-NM-014-AD]

RIN 2120-AA64

Airworthiness Directives; Airbus Airplanes

AGENCY: Federal Aviation Administration (FAA), DOT.

ACTION: Notice of proposed rulemaking (NPRM).

SUMMARY: We propose to adopt a new airworthiness directive (AD) for all Airbus Model A330-200 Freighter, A330-200 and -300, and A340-200 and -300 series airplanes. This proposed AD was prompted by reports of cracked adjacent frame forks of a forward cargo door. This proposed AD would require repetitive detailed inspections for cracks and sheared, loose, or missing rivets of the forward cargo door and, for certain airplanes, of the aft cargo door, and repair if necessary. We are proposing this AD to detect and correct cracked or ruptured cargo door frames, which could result in reduced structural integrity of the forward or aft cargo door.

DATES: We must receive comments on this proposed AD by July 5, 2013.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC, between 9 a.m. and 5 p.m., Monday through Friday, except Federal holidays.

For service information identified in this proposed AD, contact Airbus SAS, Airworthiness Office—EAL, 1 Rond Point Maurice Bellonte, 31707 Blagnac Cedex, France; telephone +33 5 61 93 36 96; fax +33 5 61 93 45 80; email airworthiness.A330-A340@airbus.com; Internet http://www.airbus.com. You may review copies of the referenced service information at the FAA, Transport Airplane Directorate, 1601 Lind Avenue SW., Renton, WA. For information on the availability of this material at the FAA, call 425-227-1221.

Examining the AD Docket

You may examine the AD docket on the Internet at http://www.regulations.gov; or in person at the Docket Operations office between 9 a.m. and 5 p.m., Monday through Friday, except Federal holidays. The AD docket contains this proposed AD, the regulatory evaluation, any comments received, and other information. The street address for the Docket Operations office (telephone (800) 647-5527) is in the ADDRESSES section. Comments will be available in the AD docket shortly after receipt.

FOR FURTHER INFORMATION CONTACT: Vladimir Ulyanov, Aerospace Engineer, International Branch, ANM-116, Transport Airplane Directorate, FAA, 1601 Lind Avenue SW., Renton, Washington 98057-3356; telephone (425) 227-1138; fax (425) 227-1149.

SUPPLEMENTARY INFORMATION:

Comments Invited

We invite you to send any written relevant data, views, or arguments about this proposed AD. Send your comments to an address listed under the ADDRESSES section. Include “Docket No. FAA-2013-0424; Directorate Identifier 2013-NM-014-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

The European Aviation Safety Agency (EASA), which is the Technical Agent for the Member States of the European Community, has issued EASA Airworthiness Directive 2012-0274, dated December 21, 2012 (referred to after this as the Mandatory Continuing Airworthiness Information, or “the MCAI”), to correct an unsafe condition for the specified products. The MCAI states:

One A330 operator recently reported a case where two adjacent frame (FR) forks of a forward cargo door were found cracked. FR20B was found cracked through, FR21 was found cracked half through. At the time of the findings, the affected aeroplane had accumulated around 21 000 flight cycles (FC) and it had already been inspected in accordance with EASA AD 2011-0007R1 [which corresponds to FAA AD 2012-12-12, Amendment 39-17092 (77 FR 37797, June 25, 2012)] and [airworthiness limitation instructions] ALI Task 523106-01-1. However, during those inspections, the forward cargo door handle access panel is not required to be removed, which explains why the cracks at these two internal frame locations were not detected.

After further analysis, it was determined that, in case of cracked or ruptured (forward or aft) cargo door frame, the loads will be transferred to the remaining structural elements. However, the second load path is able to sustain the loads for a limited number of flight cycles only.

This condition, if not detected and corrected, could lead to rupture of two vertical frames, resulting in reduced structural integrity of the forward or aft cargo door.

To address this condition, Airbus issued four separate Alert Operators Transmissions (AOT), giving instructions for repetitive inspections of the affected areas.

For the reasons described above, this [EASA] AD requires repetitive detailed visual inspections of aft cargo door at FR60 and FR60A [for certain airplanes] and forward cargo door at FR21 and FR20B [for all airplanes], where the cargo door handle access panels are located, as follow:

—outer skin rivets for sheared, loose or missing rivets at frame fork ends,

—whole inner forks for cracks and for sheared, loose or missing rivets at frame web and flange after removal of handle access panels, and

the accomplishment of the applicable corrective actions [which include repair, in accordance with a method approved by the Manager, International Branch, ANM-116, Transport Airplane Directorate, FAA.]

Note: Accomplishment of the above inspections does not cancel accomplishment of the inspections as required by EASA AD 2011-0007R1, nor accomplishment of those in accordance with ALI Task 523106-01-1.

You may obtain further information by examining the MCAI in the AD docket.

Relevant Service Information

Airbus has issued the following Alert Operator Transmissions (AOTs). The actions described in this service information are intended to correct the unsafe condition identified in the MCAI.

• Airbus AOT A330-A52L001-12, dated December 3, 2012.

• Airbus AOT A330-A52L003-12, dated December 3, 2012.

• Airbus AOT A340-A52L002-12, dated December 3, 2012.

• Airbus AOT A340-A52L004-12, dated December 3, 2012.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

Differences Between This Proposed AD and the MCAI or Service Information

The service information specifies to contact the manufacturer for instructions on how to repair certain conditions, but this proposed AD would require repairing those conditions using a method approved by the FAA or the EASA (or its delegated agent).

Costs of Compliance

Based on the service information, we estimate that this proposed AD would affect about 66 products of U.S. registry. We also estimate that it would take about 1 work-hour per product to comply with the basic requirements of this proposed AD. The average labor rate is $85 per work-hour. Based on these figures, we estimate the cost of the proposed AD on U.S. operators to be $5,610, or $85 per product.

We have received no definitive data that would enable us to provide cost estimates for the on-condition actions specified in this AD.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

We prepared a regulatory evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

Airbus: Docket No. FAA-2013-0424; Directorate Identifier 2013-NM-014-AD.

(a) Comments Due Date

We must receive comments by July 5, 2013.

(b) Affected ADs

None.

(c) Applicability

This AD applies to Airbus Model A330-201, -202, -203, -223, -223F, -243, -243F, -301, -302, -303, -321, -322, -323, -341, -342, and -343 airplanes; and Model A340-211, -212, -213, -311, -312, and -313 airplanes; certificated in any category; all manufacturer serial numbers (MSN).

(d) Subject

Air Transport Association (ATA) of America Code 52, Doors.

(e) Reason

This AD was prompted by reports of cracked adjacent frame forks of a forward cargo door. We are issuing this AD to detect and correct cracked or ruptured cargo door frames, which could result in reduced structural integrity of the forward or aft cargo door.

(f) Compliance

You are responsible for having the actions required by this AD performed within the compliance times specified, unless the actions have already been done.

(g) Inspections for Certain Airplanes

For Model A330-200, -200 Freighter, and -300 airplanes up to MSN 0162 inclusive, except those on which Airbus Service Bulletin A330-52-3044 has been embodied in service; and for Model A340-200 and -300 airplanes up to MSN 0164 inclusive, except those on which Airbus Service Bulletin A340-52-4054 has been embodied in service: Before the accumulation of 15,800 total flight cycles since the airplane's first flight or within 100 flight cycles after the effective date of this AD, whichever occurs later, do a detailed inspection of the outer skin rivets at the frame fork end of frame (FR)60 and FR60A of the aft cargo door for sheared, loose, or missing rivets; and do a detailed inspection of the whole FR60 and FR60A forks for cracking and for sheared, loose, or missing rivets at the frame web and flanges; in accordance with Airbus Alert Operator Transmission (AOT) A330-A52L001-12, dated December 3, 2012; or Airbus AOT A340-A52L002-12, dated December 3, 2012; as applicable. Repeat the inspections thereafter at intervals not to exceed 400 flight cycles.

(h) Inspections for All Airplanes

Within the applicable compliance time specified in paragraph (h)(1) or (h)(2) of this AD, do a detailed inspection of outer skin rivets at the frame fork end of FR21 and FR20B of the forward cargo door for sheared, loose, or missing rivets; and do a detailed inspection of the whole FR21 and FR20B forks for cracks and for sheared, loose, or missing rivets at the frame web and flanges; in accordance with Airbus AOT A330-A52L003-12, dated December 3, 2012; or Airbus AOT A340-A52L004-12, dated December 3, 2012; as applicable. Repeat this inspection thereafter at intervals not to exceed 800 flight cycles.

(1) For airplanes having less than 18,400 total flight cycles since the airplane's first flight as of the effective date of this AD: Before the accumulation of 10,600 total flight cycles since the airplane's first flight, or within 100 flight cycles after the effective date of this AD, whichever occurs later.

(2) For airplanes having 18,400 total flight cycles or more since the airplane's first flight as of the effective date of this AD: Within 50 flight cycles after the effective date of this AD.

(i) Repair

If any cracking, or sheared, loose, or missing rivet is found during any inspection required by this AD, before further flight, repair using a method approved by either the Manager, International Branch, ANM-116, Transport Airplane Directorate, FAA; or the European Aviation Safety Agency (EASA) (or its delegated agent).

(j) Actions Not Terminating Action

Doing the repair required by paragraph (i) of this AD is not terminating action for the repetitive inspections required by paragraphs (g) and (h) of this AD for that cargo door, unless the repair instruction specifically states it is terminating action.

(k) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Vladimir Ulyanov, Aerospace Engineer, International Branch, ANM-116, Transport Airplane Directorate, FAA 1601 Lind Avenue SW., Renton, Washington 98057-3356; telephone (425) 227-1138; fax (425) 227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(l) Related Information

(1) Refer to Mandatory Continuing Airworthiness Information European Aviation Safety Agency Airworthiness Directive 2012-0274, dated December 21, 2012, and the AOTs identified in paragraphs (l)(1)(i) through (l)(1)(iv) of this AD, for related information.

(i) Airbus AOT A330-A52L001-12, dated December 3, 2012.

(ii) Airbus AOT A330-A52L003-12, dated December 3, 2012.

(iii) Airbus AOT A340-A52L002-12, dated December 3, 2012.

(iv) Airbus AOT A340-A52L004-12, dated December 3, 2012.

(2) For service information identified in this AD, contact Airbus SAS, Airworthiness Office—EAL, 1 Rond Point Maurice Bellonte, 31707 Blagnac Cedex, France; telephone +33 5 61 93 36 96; fax +33 5 61 93 45 80; email airworthiness.A330-A340@airbus.com; Internet http://www.airbus.com. You may review copies of the referenced service information at the FAA, Transport Airplane Directorate, 1601 Lind Avenue SW., Renton, WA. For information on the availability of this material at the FAA, call 425-227-1221.

Issued In Renton, Washington, on May 13, 2013.
Ali Bahrami,
Manager, Transport Airplane Directorate, Aircraft Certification Service.

[FR Doc. 2013-11913 Filed 5-17-13; 8:45 am]

BILLING CODE 4910-13-P